DEPARTMENT OF ENERGY

Office of Fossil Energy

[FE Docket No. 02-23-NG, et al.]

Michigan Consolidated Gas Company, et al.; Orders Granting Authority To Import and Export Natural Gas, Including Liquefied Natural Gas

AGENCY: Office of Fossil Energy, DOE.

ACTION: Notice of Orders.

SUMMARY: The Office of Fossil Energy (FE) of the Department of Energy gives notice that during May 2002, it issued Orders granting authority to import and export natural gas, including liquefied natural gas. These Orders are summarized in the attached appendix and may be found on the FE web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8:00 a.m. and 4:30 p.m., Monday through Friday, except Federal holidays.

Issued in Washington, DC, on June 6, 2002.
Clifford P. Tomaszewski,
Manager, Natural Gas Regulation, Office of Natural Gas & Petroleum Import & Export Activities, Office of Fossil Energy.

Appendix

Orders Granting Import/Export Authorizations
[DOE/FE Authority]
Order No. | Date issued | Importer/exporter FE docket No. | Import volume | Export volume | Comments
1772 | 5-1-02 | Michigan Consolidated Gas Company 02-23-NG |  | 30 Bcf | Export natural gas to Canada, beginning on May 1, 2002, and extending through April 30, 2004.
1773 | 5-2-02 | Indeck-Oswego Limited Partnership 02-27-NG | 18 Bcf |  | Import natural gas from Canada, beginning on May 16, 2002, and extending through May 15, 2004.
1774 | 5-7-02 | Indeck-Yerkes Limited Partnership 02-28-NG | 18 Bcf |  | Import natural gas from Canada, beginning on May 16, 2002, and extending through May 15, 2004.
1775 | 5-10-02 | Energia de Baja California, S. De R.L. de C.V. 02-29-NG |  | 59,000 Mcf per day | Export natural gas to Mexico, over a two-year term beginning on the date of first delivery.
1776 | 5-10-02 | West Texas Gas, Inc. 02-32-NG |  | 50 Bcf | Export natural gas to Mexico, beginning on June 1, 2002, and extending through May 31, 2004.
1777 | 5-14-02 | Coral Energy Resources, L.P. 2-30-NG | 730 Bcf | 730 Bcf | Import a combined total of natural gas, including LNG from Canada and Mexico, and export a combined total of natural gas, including LNG to Canada and Mexico, beginning on July 1, 2002, and extending through June 30, 2004.
1778 | 5-16-02 | Panhandle Eastern Pipe Line Company 02-25-NG | 10 Bcf |  | Export to reimport natural gas to and from Canada, beginning on December 16, 2001, and extending through December 15, 2003.
1779 | 5-23-02 | Tristar Gas Marketing Company 02-34-NG | 10 Bcf | 10 Bcf | Import natural gas from Canada, and import and export a combined total of natural gas from and to Mexico, beginning on April 1, 2002, and extending through March 31, 2004.
1781 | 5-31-02 | National Fuel Resources, Inc. 02-37-NG | 50 Bcf |  | Import and export a combined total of natural gas from and to Canada, beginning on June 1, 2002, and extending through May 31, 2004.
1782 | 5-31-02 | Emera Offshore Inc. 02-35-NG | 150 Bcf |  | Import and export a combined total of natural gas from and to Canada, beginning on June 1, 2002, and extending through May 31, 2004.
1783 | 5-31-02 | Emera Energy Inc. 02-36-NG | 150 Bcf |  | Import and export a combined total of natural gas from and to Canada, beginning on June 1, 2002, and extending through May 31, 2004.
1784 | 5-31-02 | Tractebel LNG North America Service Corporation 02-33-LNG | 100 Bcf |  | Import liquefied natural gas from various international sources beginning on June 19, 2002, and extending through June 18, 2004.

[FR Doc. 02-14743 Filed 6-11-02; 8:45 am]

BILLING CODE 6450-01-P